NATIONAL AERONAUTICS AND SPACE ADMINISTRATION

[NASA Document Number: 25-040; NASA Docket Number: NASA-2025-0135]

Name of Information Collection: NASA Software Release System

AGENCY: National Aeronautics and Space Administration (NASA).

ACTION: Notice of a renewal of information collection.

SUMMARY: NASA, as part of its continuing effort to reduce paperwork and respondent burden, invites the general public and other Federal agencies to take this opportunity to comment on proposed and/or continuing information collections, as required by the Paperwork Reduction Act of 1995 (PRA).

DATES: Comments are due November 24, 2025.

ADDRESSES: Written comments and recommendations for this information collection should be sent within 60 days of publication of this notice at http://www.regulations.gov and search for NASA Docket NASA-2025-0135.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email stayce.d.hoult@nasa.gov or hq-ocio-pra-program@mail.nasa.gov.

SUPPLEMENTARY INFORMATION:

I. Abstract

NASA Software Release Request System (SRS) is a workflow tool that allows Agency Software Release Authorities (SRAs) to easily develop and route software release documents, such as the Software Release Request Authorization (SRRA) and Section 508 Compliance Matrix in an automated fashion. SRAs have the added ability to perform parallel routing, including the use of time-based email reminders, tracking and reporting progress on the processing of the software release requests so they can effectively manage this process at their respective centers. Software owners/developers can submit the Software Release Requests or view their submitted Software Release Requests that may need their attention. NASA is committed to effectively performing the Agency's communication function in accordance with the Space Act Section 203 (a)(3) to “provide for the widest practicable and appropriate dissemination of information concerning its activities and the results thereof,” and to enhance public understanding of, and participation in, the nation's aeronautical and space program in accordance with the NASA Strategic Plan.

II. Methods of Collection

Web Based—only accessible via NASA's internal network (e.g., on site or remotely via a NASA issued VPN).

III. Data

Title: NASA Software Release System.

OMB Number: 2700-0175.

Type of Review: Information Collection Renewal.

Affected Public: NASA Funded Contractors and Government Employees.

Estimated Annual Number of Activities: On average 110 software packages are processed per year.

Estimated Number of Respondents per Activity: At least one respondent will complete the form per activity (software release) which will result in approximately 110 respondents.

Annual Responses: 110.

Estimated Time per Response: 240 minutes.

Estimated Total Annual Burden Hours: 440.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2025-18374 Filed 9-22-25; 8:45 am]

BILLING CODE 7510-13-P